DEPARTMENT OF STATE

[Public Notice 5166]

Shipping Coordinating Committee; Notice of Meeting

The Department of State's Shipping Coordinating Committee; Subcommittee on Ocean Dumping will hold an open meeting on Wednesday, October 19, 2005, from 1 p.m. to 3 p.m. to obtain public comment on the issues to be addressed at the October 24-28, 2005, Twenty-seventh Consultative Meeting of Contracting Parties to the London Convention. The London Convention of 1972 is the global international treaty regulating ocean dumping. The meeting will also review the results of the Twenty-eighth Scientific Group Meeting of the London Convention that was held in London, United Kingdom from May 23-27, 2005.

In addition, participants at this meeting will discuss plans for ratification, by the United States, of the 1996 London Protocol. The Protocol is a treaty signed by the United States in 1998 that is separate from the London Convention. It sets forth a regime that is more comprehensive, more stringent, and more protective of the marine environment than the London Convention.

The public meeting will be held at the Department of State located at 2201 C Street, NW., Washington, DC 20520 in Room 7835. Interested members of the public are invited to attend, up to the capacity of the room.

For further information and pre-clearance into the Department of State, please contact: Anne Chick, Office of Ocean Affairs, U.S. Department of State, Room 5805, 2201 C Street, NW., Washington, DC 20520, telephone (202) 647-3879, or email chickal@state.gov by Monday, October 17, 2005.

Dated: September 15, 2005.
Clayton Diamond,
Executive Secretary, Shipping Coordinating Committee, Department of State.

[FR Doc. 05-18849 Filed 9-20-05; 8:45 am]

BILLING CODE 4710-09-P